DEPARTMENT OF TRANSPORTATION

Federal Aviation Administration

Airborne Navigation Sensors Using the Global Positioning System Augmented by the Local Area Augmentation System

AGENCY: Federal Aviation Administration, DOT.

ACTION: Notice of availability and request for public comment.

SUMMARY: This notice announces the availability of and requests comments on a draft Technical Standard Order (TSO) C-161, Local Area Augmentation System Positioning and Navigation Equipment. The draft TSO tells manufacturers seeking TSO authorization or letter of design approval what minimum performance standards (MPS) their airborne navigation equipment using the Global Positioning System (GPS) augmented by the Local Area Augmentation System (LAAS) (GPS/LAAS equipment) must first meet for approval and identification with the applicable TSO marking.

DATES: Submit comments on or before April 8, 2003.

ADDRESSES: Send all comments on the proposed TSO to: Federal Aviation Administration, Aircraft Certification Service, Room 815, AIR-130, 800 Independence Avenue, SW., Washington, DC 20591. You may deliver comments to: Federal Aviation Administration, 800 Independence Avenue, SW., Room 815, Washington, DC 20591.

FOR FURTHER INFORMATION CONTACT: Mr. Bruce DeCleene, Federal Aviation Administration, Aircraft Certification Service, Room 815, AIR-130, 800 Independence Avenue, SW., Washington, DC 20591, Telephone: (202) 385-4640, Fax: (202) 395-4651.

SUPPLEMENTARY INFORMATION:

Comments Invited

You are invited to comment on the draft TSO listed in this notice by submitting written data, views, or arguments, to the address listed above. Your comments should identify “Comments to TSO C-161.1.” You can examine all comments on the draft TSO before and after the closing date, at the Federal Aviation Administration, Room 815, 800 Independence Avenue, SW., Washington, DC 20591, weekdays except Federal Holidays between 8:30 a.m. and 4:30 p.m. The Director of the Aircraft Certification Service considers all communications received on or before the closing date before issuing the final TSO.

Background

The FAA is pursuing differential GPS technology under the LAAS program. LAAS ground facilities will be consistent with the International Civil Aviation Organization standards for Ground-based Augmentation Systems for GPS that support Category I precision approaches and the positioning service. RTCA has developed standards for airborne navigation equipment using LAAS. Two new TSOs have been drafted based upon the RTCA standards. One TSO is for the VHF data broadcast receive function; the other is for the position and navigation function.

How To Obtain Copies

You may get a copy of the draft TSO from the Internet at: http://av-info.faa.gov/tso/Tsopro/Proposed.htm. You may also request a copy from Mr. Bruce DeCleene, See the section entitled FOR FURTHER INFORMATION CONTACT for the complete address.

Issued in Washington, DC, on February 28, 2003.
Susan J.M. Cabler,
Deputy Manager, Aircraft Engineering Division, Aircraft Certification Service.

[FR Doc. 03-5292 Filed 3-5-03; 8:45 am]

BILLING CODE 4910-13-M